DEPARTMENT OF HOUSING AND URBAN DEVELOPMENT

24 CFR Parts 5, 50, 55, 58, 200, 579, 905, 943, 970, and 972

[Docket No. FR-6071-N-01]

Withdrawal of Proposed Rules To Reduce Regulatory and Financial Burden

AGENCY: Office of the General Counsel, HUD.

ACTION: Withdrawal of proposed rules.

SUMMARY: As part of the efforts of HUD's Regulatory Reform Task Force, this document informs the public that HUD has determined not to pursue five proposed rules published in the Federal Register and, as a result, is withdrawing the rules from HUD's Unified Agenda of Regulatory and Deregulatory Actions. HUD is taking this action consistent with Executive Order 13771 entitled “Reducing Regulation and Controlling Regulatory Costs”, and Executive Order 13777, entitled, Enforcing the Regulatory Reform Agenda” which, among other things, require that the cost of planned regulations be prudently managed and controlled.

DATES: The proposed rules listed in the SUPPLEMENTARY INFORMATION are withdrawn as of December 22, 2017.

FOR FURTHER INFORMATION CONTACT: Ariel Pereira, Associate General Counsel for Legislation and Regulations, Office of General Counsel, Department of Housing and Urban Development, 451 7th Street SW, Room 10282, Washington DC 20410; telephone number 202-402-5138 (this is not a toll-free number). Persons with hearing or speech impairments may access this number through TTY by calling the toll-free Federal Relay Service at 800-877-8339.

SUPPLEMENTARY INFORMATION:

Executive Orders 13771 and 13777

Executive Order 13771, entitled “Reducing Regulation and Controlling Regulatory Costs,” signed January 27, 2017 (82 FR 9339), requires that for every new regulation issued, at least two prior regulations be identified for removal, and that the cost of planned regulations be prudently managed and controlled through a budgeting process. Additionally, as required by Executive Order 13777, entitled “Enforcing the Regulatory Reform Agenda,” signed February 24, 2017 (82 FR 12285), HUD established a Regulatory Task Force that is identifying agency regulations that should be repealed, replaced, or modified. Accordingly, as part of this review, the Regulatory Task Force has determined to withdraw these five proposed rules.

HUD's Withdrawal of Proposed Rules

HUD withdraws the following five proposed rules from its Unified Agenda of Regulatory and Deregulatory Actions:

1. Floodplain Management Protection of Wetlands; Minimum Property Standards for Flood Hazard Exposure; Building to the Federal Flood Risk Management Standard (81 FR 74967, October 28, 2016);

2. Demolition or Disposition of Public Housing Projects and Conversion of Public Housing to Tenant-Based Assistance (79 FR 62249, October 16, 2014);

3. Streamlining Requirements Applicable to Formation of Consortia of Public Housing Agencies (79 FR 40019, July 11, 2014);

4. Homeless Emergency Assistance and Rapid Transition to Housing Rural Housing Stability Program (78 FR 18725, March 27, 2013); and

5. Public Housing: Physical Needs Assessments (76 FR 43219, July 20, 2011).

HUD's Unified Agenda of Regulatory and Deregulatory Actions is available on Reginfo.gov and can be accessed at https://www.reginfo.gov/public/do/eAgendaMain.

Dated: December 15, 2017.
Bethany A. Zorc,
Acting General Counsel.

[FR Doc. 2017-27615 Filed 12-21-17; 8:45 am]

BILLING CODE 4210-67-P